DEPARTMENT OF THE INTERIOR

National Park Service

Cape Cod National Seashore Hunting Program, Final Environmental Impact Statement, Cape Cod National Seashore, Massachusetts

AGENCY: National Park Service, Department of Interior.

ACTION: Notice of availability of a Record of Decision on the Final Environmental Impact Statement for the Cape Cod National Seashore Hunting Program, Cape Cod National Seashore.

SUMMARY: Pursuant to section 102(2)(C) of the National Environmental Policy Act of 1969, 83 Stat. 852,853, codified as amended at 42 U.S.C. section 4332(2)(c), the National Park Service announces the availability of the Record of Decision for the Final Environmental Impact Statement (FEIS) for the Cape Cod National Seashore Hunting Program, Cape Cod National Seashore, Massachusetts. On September 18, 2007, the Regional Director, Northeast Region approved the Record of Decision for the project. As soon as practicable, and as described in the Record of Decision, the National Park Service will begin to implement the Preferred Alternative contained in the FEIS issued on August 10, 2007. The following course of action will occur under the preferred alternative. Cape Cod National Seashore will increase hunting opportunities for native upland game bird species; apply adaptive management to phase out the pheasant stocking and hunting program; simplify and clearly delineate hunting areas and increase the “no-hunting” safety buffers along bike paths; expand hunting-related outreach to hunting and non-hunting users; and undertake cooperative monitoring and management of game species. This course of action and two alternatives were analyzed in the Draft and Final Environmental Impact Statements. The full range of foreseeable environmental consequences was assessed.

The Record of Decision includes a statement of the decision made, synopses of other alternatives considered, the basis for the decision, a description of the environmentally preferable alternative, a finding on impairment of park resources and values, and an overview of public involvement in the decision-making process.

FOR FURTHER INFORMATION CONTACT: Superintendent, Cape Cod National Seashore, 99 Marconi Site Road, Wellfleet, Massachusetts, 02667. Telephone: (508) 349-3785, Fax; (508) 349-9052. E-mail: CACO_Superintendent@nps.gov.

SUPPLEMENTARY INFORMATION: Copies of the Record of Decision may be obtained from the contact listed above or online at http://parkplanning.nps.gov.

Dated: September 18, 2007.
Dennis R. Reidenbach,
Regional Director, Northeast Region, National Park Service.

[FR Doc. 07-5050 Filed 10-11-07; 8:45 am]

BILLING CODE 4312-52-M